DEPARTMENT OF TRANSPORTATION

Federal Railroad Administration

Petitions for Waivers of Compliance

In accordance with Title 49 Code of Federal Regulations (CFR) Section 211.41, and 49 U.S.C. 20103, notice is hereby given that the Federal Railroad Administration (FRA) has received a request for waiver of compliance with certain requirements of the Federal railroad safety regulations. The individual petition is described below, including the party seeking relief, the regulatory provisions involved, and the nature of the relief being sought.

Hillsborough Area Regional Transit

[Docket Number FRA-2002-13398]

Hillsborough Area Regional Transit (Hartline) seeks a permanent waiver of compliance from Title 49 of the CFR for operation of a new light rail line at a “limited connection” with CSX Transportation (CSXT). In this regard, Hartline has constructed the “TECO Line Streetcar System,” which intersects with the CSXT Tampa Terminal Subdivision at a rail crossing located in the City of Tampa, Florida.

Hartline seeks relief from all applicable FRA rules based on the safety precautions already in place at the crossing. Specifically, CSXT is subject to FRA's regulations and maintains and operates the rail crossing for the proposed project, and the TECO Line Streetcar System is a light rail transit operation except for the minor crossing connection. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

Interested parties are invited to participate in this proceeding by submitting written views, data, or comments. FRA does not anticipate scheduling a public hearing in connection with the request for a waiver of certain regulatory provisions. If any interested party desires an opportunity for oral comment, he or she should notify FRA, in writing, before the end of the comment period and specify the basis for his or her request. All communications concerning these proceedings should identify the appropriate docket number (Docket Number FRA-2002-13398) and must be submitted to the DOT Docket Management Facility, Room PL-401 (Plaza Level), 400 Seventh Street, SW., Washington, DC 20590. Communications received within 30 days of the date of this notice will be considered by FRA before final action is taken. Comments received after that date will be considered as far as practicable. All written communications concerning this proceeding are available for examination during regular business hours (9 a.m.-5 p.m.) at the above facility. All documents in the public docket, including Hartline's detailed waiver request, are also available for inspection and copying on the Internet at the docket facility's Web site at http://dms.dot.gov.

Issued in Washington, DC, on October 3, 2002.
Grady C. Cothen, Jr.,
Deputy Associate Administrator for Safety Standards and Program Development.

[FR Doc. 02-26127 Filed 10-11-02; 8:45 am]

BILLING CODE 4910-06-P